DEPARTMENT OF TRANSPORTATION

Federal Aviation Administration

14 CFR Part 97

[Docket No. 30651 Amdt. No. 3308]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective February 26, 2009. The compliance date for each SIAP, associated Takeoff Minimums, and ODP is specified in the amendatory provisions.

The incorporation by reference of certain publications listed in the regulations is approved by the Director of the Federal Register as of February 26, 2009.

ADDRESSES: Availability of matters incorporated by reference in the amendment is as follows:

For Examination

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK, 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on February 6, 2009.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 12 MAR 2009

Iliamna, AK, Iliamna, NDB RWY 35, Amdt 2

Iliamna, AK, Iliamna, RNAV (GPS) RWY 7, Amdt 3

Iliamna, AK, Iliamna, RNAV (GPS) RWY 17, Amdt 1

Iliamna, AK, Iliamna, Takeoff Minimums and Obstacle DP, Amdt 2

Ketchikan, AK, Ketchikan, ILS OR LOC/DME Y RWY 11, Amdt 7A

Toksook Bay, AK, Toksook Bay, RNAV (GPS) RWY 34, Amdt 1A

Wrangell, AK, Wrangell, RNAV (GPS)-A, Orig

Alabaster, AL, Shelby County, RNAV (GPS) RWY 16, Orig

Alabaster, AL, Shelby County, RNAV (GPS) RWY 34, Amdt 1

Alabaster, AL, Shelby County, Takeoff Minimums and Obstacle DP, Amdt 3

Anniston, AL, Anniston Metropolitan, ILS OR LOC RWY 5, Amdt 3

Anniston, AL, Anniston Metropolitan, NDB RWY 5, Amdt 4

Demopolis, AL, Demopolis Muni, RNAV (GPS) RWY 4, Orig

Demopolis, AL, Demopolis Muni, RNAV (GPS) RWY 22, Orig

Demopolis, AL, Demopolis Muni, Takeoff Minimums and Obstacle DP, Amdt 1

Flippin, AR, Marion County Rgnl, RNAV (GPS) RWY 4, Orig

Flippin, AR, Marion County Rgnl, RNAV (GPS) RWY 22, Orig

Flippin, AR, Marion County Rgnl, VOR-A, Amdt 14

Flippin, AR, Marion County Rgnl, VOR/DME RNAV RWY 22, Orig-A, CANCELLED

Harrison, AR, Boone County, RNAV (GPS) RWY 36, Amdt 1

Osceola, AR, Osceola Muni, NDB OR GPS RWY 19, Orig-B, CANCELLED

Phoenix, AZ, Phoenix Sky Harbor Intl, RNAV (GPS) Y RWY 7L, Amdt 1

Phoenix, AZ, Phoenix Sky Harbor Intl, RNAV (GPS) Y RWY 7R, Amdt 1

Phoenix, AZ, Phoenix Sky Harbor Intl, RNAV (GPS) Y RWY 8, Amdt 1

Phoenix, AZ, Phoenix Sky Harbor Intl, RNAV (GPS) Y RWY 25L, Amdt 1

Phoenix, AZ, Phoenix Sky Harbor Intl, RNAV (GPS) Y RWY 25R, Amdt 2

Phoenix, AZ, Phoenix Sky Harbor Intl, RNAV (GPS) Y RWY 26, Amdt 2

Phoenix, AZ, Phoenix Sky Harbor Intl, RNAV (RNP) Z RWY 7L, Orig

Phoenix, AZ, Phoenix Sky Harbor Intl, RNAV (RNP) Z RWY 7R, Orig

Phoenix, AZ, Phoenix Sky Harbor Intl, RNAV (RNP) Z RWY 8, Orig

Phoenix, AZ, Phoenix Sky Harbor Intl, RNAV (RNP) Z RWY 25L, Orig

Phoenix, AZ, Phoenix Sky Harbor Intl, RNAV (RNP) Z RWY 25R, Orig

Phoenix, AZ, Phoenix Sky Harbor Intl, RNAV (RNP) Z RWY 26, Orig

Riverside, CA, Riverside Muni, RNAV (GPS) RWY 9, Orig

Riverside, CA, Riverside Muni, VOR RWY 9, Orig

Riverside, CA, Riverside Muni, VOR-A, Orig

Riverside, CA, Riverside Muni, VOR-B, Orig

Riverside, CA, Riverside Muni, VOR OR GPS RWY 9, Amdt 9B, CANCELLED

Riverside, CA, Riverside Muni, VOR OR GPS-A, Amdt 5B, CANCELLED

Riverside, CA, Riverside Muni, VOR OR GPS-B, Orig-B, CANCELLED

Steamboat Springs, CO, Steamboat Springs/Bob Adams Field, GPS-E, Orig-A, CANCELLED

Steamboat Springs, CO, Steamboat Springs/Bob Adams Field, RNAV (GPS)-E, Orig

Clewiston, FL, Airglades, RNAV (GPS) RWY 13, Orig

Clewiston, FL, Airglades, RNAV (GPS) RWY 31, Orig

Clewiston, FL, Airglades, Takeoff Minimums and Obstacle DP, Orig

West Palm Beach, FL, North Palm Beach County General Aviation, RNAV (GPS)

RWY 13, Orig-A

Atlanta, GA, Cobb County-McCollum Field, ILS OR LOC RWY 27, Amdt 3

Atlanta, GA, Cobb County-McCollum Field, RNAV (GPS) RWY 9, Amdt 3

Atlanta, GA, Cobb County-McCollum Field, RNAV (GPS) RWY 27, Amdt 3

Atlanta, GA, Cobb County-McCollum Field, Takeoff Minimums and Obstacle DP, Amdt 2

Atlanta, GA, Cobb County-McCollum Field, VOR/DME RWY 9, Amdt 2

Dallas, GA, Paulding County Regional, ILS OR LOC/DME RWY 31, Orig

Dallas, GA, Paulding County Regional, RNAV (GPS) RWY 13, Orig

Dallas, GA, Paulding County Regional, RNAV (GPS) RWY 31, Orig

Dallas, GA, Paulding County Regional, RNAV (GPS)-A, Orig

Dallas, GA, Paulding County Regional, Takeoff Minimums and Obstacle DP, Orig

Rome, GA, Richard B Russell, RNAV (GPS) RWY 1, Orig

Rome, GA, Richard B Russell, RNAV (GPS) RWY 7, Orig

Rome, GA, Richard B Russell, RNAV (GPS) RWY 19, Orig

Rome, GA, Richard B Russell, RNAV (GPS) RWY 25, Orig

Rome, GA, Richard B Russell, VOR/DME RWY 1, Amdt 9

Rome, GA, Richard B Russell, VOR/DME RWY 19, Amdt 9

Des Moines, IA, Des Moines Intl, RNAV (GPS) RWY 13, Amdt 1A

Des Moines, IA, Des Moines Intl, RNAV (GPS) RWY 31, Amdt 1A

Harlan, IA, Harlan Muni, NDB RWY 33, Amdt 5A, CANCELLED

Iowa Falls, IA, Iowa Falls Muni, NDB RWY 31, Amdt 5

Iowa Falls, IA, Iowa Falls Muni, RNAV RWY 31, Orig

Iowa Falls, IA, Iowa Falls Muni, Takeoff Minimums and Obstacle DP, Orig

Ottumwa, IA, Ottumwa Rgnl, RNAV RWY 31, Orig

Ottumwa, IA, Ottumwa Rgnl, Takeoff Minimums and Obstacle DP, Orig

Ottumwa, IA, Ottumwa Rgnl, VOR RWY 31, Amdt 15

Idaho Falls, ID, Idaho Falls Regional, RNAV (GPS) RWY 20, Orig

Idaho Falls, ID, Idaho Falls Regional, VOR RWY 20, Amdt 10

Monee, IL, Bult Field, RNAV (GPS) RWY 9, Orig

Monee, IL, Bult Field, RNAV (GPS) RWY 27, Orig

Monee, IL, Bult Field, Takeoff Minimums and Obstacle DP, Orig

Natchitoches, LA, Natchitoches Rgnl, NDB RWY 35, Amdt 5

Sulphur, LA, Southland Field, GPS RWY 15, Amdt 1A, CANCELLED

Sulphur, LA, Southland Field, LOC RWY 15, Amdt 2

Sulphur, LA, Southland Field, RNAV (GPS) RWY 15, Orig

Sulphur, LA, Southland Field, RNAV (GPS) RWY 33, Orig

Sulphur, LA, Southland Field, Takeoff Minimums and Obstacle DP, Orig

Sulphur, LA, Southland Field, VOR/DME-A, Amdt 2

Hagerstown, MD, Hagerstown Rgnl-Richard A. Henson Fld, ILS OR LOC RWY 27, Amdt 10

Hagerstown, MD, Hagerstown Rgnl-Richard A. Henson Fld, RNAV (GPS) RWY 9, Orig

Hagerstown, MD, Hagerstown Rgnl-Richard A. Henson Fld, RNAV (GPS) RWY 27, Orig

Hagerstown, MD, Hagerstown Rgnl-Richard A. Henson Fld, VOR RWY 9, Amdt 7

Detroit, MI, Coleman A. Young Muni, RNAV (GPS) RWY 15, Orig

Detroit, MI, Coleman A. Young Muni, RNAV (GPS) RWY 33, Orig

Detroit, MI, Coleman A. Young Muni, VOR RWY 33, Amdt 28

Iron Mountain Kingsford, MI, Ford, RNAV (GPS) RWY 1, Orig

Iron Mountain Kingsford, MI, Ford, RNAV (GPS) RWY 19, Orig

Iron Mountain Kingsford, MI, Ford, Takeoff Minimums and Obstacle DP, Amdt 5

Iron Mountain Kingsford, MI, Ford, VOR RWY 31, Amdt 16

Morris, MN, Morris Muni-Charlie Schmidt Fld, RNAV (GPS) RWY 14, Orig

Morris, MN, Morris Muni-Charlie Schmidt Fld, VOR RWY 14, Amdt 1

Redwood Falls, MN, Redwood Falls Muni, GPS RWY 30, Orig-A, CANCELLED

Redwood Falls, MN, Redwood Falls Muni, RNAV (GPS) RWY 30, Orig

Redwood Falls, MN, Redwood Falls Muni, Takeoff Minimums and Obstacle DP, Orig

Redwood Falls, MN, Redwood Falls Muni, VOR-A, Amdt 5

Burlington, NC, Burlington-Alamance Regional, GPS RWY 6, Amdt 1A, CANCELLED

Burlington, NC, Burlington-Alamance Regional, ILS OR LOC/NDB RWY 6, Amdt 1

Burlington, NC, Burlington-Alamance Regional, RNAV (GPS) RWY 6, Orig

Franklin, NC, Macon County, RNAV (GPS)-A, Orig

Franklin, NC, Macon County, Takeoff Minimums and Obstacle DP, Orig

Roanoke Rapids, NC, Halifax-Northampton Regional, RNAV (GPS) RWY 2, Orig

Roanoke Rapids, NC, Halifax-Northampton Regional, RNAV (GPS) RWY 20, Orig

Roanoke Rapids, NC, Halifax-Northampton Regional, Takeoff Minimums and Obstacle DP, Orig

Roanoke Rapids, NC, Halifax-Northampton Regional, VOR/DME RWY 2, Orig

Grand Forks, ND, Grand Forks Intl, RNAV (GPS) RWY 9L, Amdt 1

Grand Forks, ND, Grand Forks Intl, RNAV (GPS) RWY 27R, Amdt 2

Grand Forks, ND, Grand Forks Intl, Takeoff Minimums and Obstacle DP, Amdt 2

Hastings, NE, Hastings Muni, Takeoff Minimums and Obstacle DP, Amdt 3

Newark, NJ, Newark Liberty Intl, RNAV (RNP) Y RWY 29, Orig

Newark, NJ, Newark Liberty Intl, RNAV (RNP) Z RWY 29, Orig

Dansville, NY, Dansville Muni, Takeoff Minimums and Obstacle DP, Amdt 2

Saratoga Springs, NY, Saratoga County, RNAV (GPS) RWY 5, Amdt 1

Saratoga Springs, NY, Saratoga County, Takeoff Minimums and Textual DP, Amdt 3

Saratoga Springs, NY, Saratoga County, VOR/DME-A, Amdt

Sidney, NY, Sidney Muni, Takeoff Minimums and Obstacle DP, Amdt 4

Sidney, NY, Sidney Muni, VOR RWY 25, Amdt 3

Lima, OH, Lima Allen County, ILS OR LOC RWY 27, Amdt 3

Lima, OH, Lima Allen County, RNAV (GPS) RWY 27, Orig

Lima, OH, Lima Allen County, Takeoff Minimums and Obstacle DP, Orig

Lima, OH, Lima Allen County, VOR RWY 27, Amdt 15

Mansfield, OH, Mansfield Lahm Rgnl, ILS OR LOC RWY 32, Amdt 16

Mansfield, OH, Mansfield Lahm Rgnl, RNAV (GPS) RWY 14, Orig

Mansfield, OH, Mansfield Lahm Rgnl, RNAV (GPS) RWY 32, Orig

Mansfield, OH, Mansfield Lahm Rgnl, Takeoff Minimums and Obstacle DP, Orig

Mansfield, OH, Mansfield Lahm Rgnl, VOR RWY 14, Amdt 14

Mansfield, OH, Mansfield Lahm Rgnl, VOR RWY 32, Amdt 7

Toledo, OH, Toledo Express, ILS OR LOC RWY 7, Amdt 28

Toledo, OH, Toledo Express, RNAV (GPS) RWY 25, Amdt 2

Sand Springs, OK, William R Pogue Muni, GPS RWY 35, Orig-C, CANCELLED

Sand Springs, OK, William R Pogue Muni, RNAV (GPS) RWY 17, Orig

Sand Springs, OK, William R Pogue Muni, RNAV (GPS) RWY 35, Orig

Sand Springs, OK, William R Pogue Muni, Takeoff Minimums and Obstacle DP, Amdt 2

Sand Springs, OK, William R Pogue Muni, VOR/DME-A, Amdt 3

Corvallis, OR, Corvallis Muni, GPS RWY 17, Orig, CANCELLED

Corvallis, OR, Corvallis Muni, RNAV (GPS) RWY 17, Orig

Florence, SC, Florence Rgnl, RADAR-1, Amdt 1

Florence, SC, Florence Rgnl, Takeoff Minimums and Textual DP, Amdt 5

Florence, SC, Florence Rgnl, VOR OR TACAN-A, Amdt 6

Crossville, TN, Crossville Memorial-Whitson Fld, ILS OR LOC RWY 26, Amdt 13

Crossville, TN, Crossville Memorial-Whitson Fld, RNAV (GPS) RWY 26, Orig

Crossville, TN, Crossville Memorial-Whitson Fld, VOR/DME-A, Amdt 9

Murfreesboro, TN, Murfreesboro Muni, RNAV (GPS) RWY 18, Amdt 1

Murfreesboro, TN, Murfreesboro Muni, RNAV (GPS) RWY 36, Amdt 1

Smyrna, TN, Smyrna, NDB RWY 32, Amdt 9

Smyrna, TN, Smyrna, RNAV (GPS) RWY 14, Orig

Smyrna, TN, Smyrna, RNAV (GPS) RWY 32, Orig

Smyrna, TN, Smyrna, Takeoff Minimums and Obstacle DP, Amdt 5

Smyrna, TN, Smyrna, VOR/DME RWY 14, Amdt 7

Smyrna, TN, Smyrna, VOR/DME RWY 32, Amdt 13

Sparta, TN, Upper Cumberland Rgnl, RNAV (GPS) RWY 4, Orig-A

Sparta, TN, Upper Cumberland Rgnl, RNAV (GPS) RWY 22, Orig-A

Dallas-Fort Worth, TX, Dallas-Fort Worth Intl, RNAV (GPS) RWY 18L, Orig

Dallas-Fort Worth, TX, Dallas-Fort Worth Intl, RNAV (GPS) RWY 18R, Orig

Dallas-Fort Worth, TX, Dallas-Fort Worth Intl, RNAV (GPS) RWY 36L, Amdt 2

Dallas-Fort Worth, TX, Dallas-Fort Worth Intl, RNAV (GPS) RWY 36R, Amdt 2

Houston, TX, Ellington Field, RNAV (GPS) RWY 22, Amdt 1

Huntsville, TX, Huntsville Muni, NDB RWY 18, Amdt 1

Huntsville, TX, Huntsville Muni, RNAV (GPS) RWY 18, Orig

Huntsville, TX, Huntsville Muni, VOR/DME-A, Amdt 6

Salt Lake City, UT, Salt Lake City Intl, Takeoff Minimums and Obstacle DP, Amdt 10

Rutland, VT, Rutland-Southern Vermont Rgnl, LOC/DME RWY 19, Orig, CANCELLED

Rutland, VT, Rutland-Southern Vermont Rgnl, LOC Y RWY 19, Amdt 3

Rutland, VT, Rutland-Southern Vermont Rgnl, LOC Z RWY 19, Amdt 1

Rutland, VT, Rutland-Southern Vermont Rgnl, RNAV (GPS) RWY 1, Orig

Rutland, VT, Rutland-Southern Vermont Rgnl, RNAV (GPS) RWY 19, Amdt 1

Rutland, VT, Rutland-Southern Vermont Rgnl, VOR/DME RWY 1, Amdt 1

Rutland, VT, Rutland-Southern Vermont Rgnl, VOR/DME RWY 19, Amdt 1

Burlington/Mount Vernon, WA, Skagit Rgnl, RNAV (GPS) RWY 28, Orig-A

Rhinelander, WI, Rhinelander-Oneida County, ILS OR LOC RWY 9, Amdt 7

Stevens Point, WI, Stevens Point Muni, RNAV (GPS) RWY 3, Orig

Stevens Point, WI, Stevens Point Muni, RNAV (GPS) RWY 21, Orig

Stevens Point, WI, Stevens Point Muni, VOR/DME RWY 3, Amdt 15

Stevens Point, WI, Stevens Point Muni, VOR/DME RWY 21, Amdt 19

Watertown, WI, Watertown Muni, GPS RWY 29, Orig, CANCELLED

Watertown, WI, Watertown Muni, NDB RWY 23, Amdt 2

Watertown, WI, Watertown Muni, RNAV (GPS) RWY 5, Orig

Watertown, WI, Watertown Muni, RNAV (GPS) RWY 11, Orig

Watertown, WI, Watertown Muni, RNAV (GPS) RWY 23, Orig

Watertown, WI, Watertown Muni, RNAV (GPS) RWY 29, Orig

Watertown, WI, Watertown Muni, VOR/DME RNAV OR GPS RWY 5, Amdt 3B, CANCELLED

Beckley, WV, Raleigh County Memorial, RNAV (GPS) RWY 10, Orig

Beckley, WV, Raleigh County Memorial, RNAV (GPS) RWY 19, Orig

Beckley, WV, Raleigh County Memorial, RNAV (GPS) RWY 28, Orig

[FR Doc. E9-3213 Filed 2-25-09; 8:45 am]

BILLING CODE 4910-13-P